DEPARTMENT OF ENERGY

Federal Energy Regulatory Commission

[Project No. 4804-001]

San Luis Obispo Flood Control and Water Conservation District; Notice of Effectiveness of Surrender

On October 27, 1981, the Commission issued an Order Granting Exemption from Licensing for a Conduit Hydroelectric Project ¹ to the San Luis Obispo Flood Control and Water Conservation District (District) for the Lopez Water Treatment Plant Hydropower Generation Unit Project No. 4804. The project was located on the county's water distribution system in San Luis Obispo County, California.

¹ San Luis Obispo Flood Control and Water Conservation District, 17 FERC ¶ 62,113 (1981).

On October 24, 2005, the District filed an application with the Commission to surrender the exemption. On April 12, 2007, staff from the Commission's San Francisco Regional Office conducted an inspection of the project to verify that the District had dismantled and abandoned the project facilities as proposed. By letter dated May 3, 2007, Commission staff confirmed the project's abandonment.

Accordingly, the Commission accepts the District's surrender of its exemption from licensing issued on October 27, 1981, effective May 3, 2007.

Dated: June 22, 2011.
Nathaniel J. Davis, Sr.,
Deputy Secretary.

[FR Doc. 2011-16691 Filed 7-1-11; 8:45 am]

BILLING CODE 6717-01-P